DEPARTMENT OF THE INTERIOR

DEPARTMENT OF AGRICULTURE

[CA 668-05-1610-PG-083A]

Monument Advisory Committee Meeting Schedule for Fiscal Year 2006

AGENCY: Bureau of Land Management, U.S. Department of the Interior; and United States Forest Service, U.S. Department of Agriculture.

ACTION: Notice of meetings for FY06.

SUMMARY: The Bureau of Land Management (BLM) and United States Forest Service (USFS) announce the schedule for meetings of the Santa Rosa and San Jacinto Mountains National Monument Advisory Committee (hereinafter referred to as MAC), for fiscal year 2006.

All meetings begin at 9 a.m. and will be held in the Palm Desert City Council Conference Room, located at 73-510 Fred Waring Drive, Palm Desert California; and will begin at 9 a.m.

Meetings are scheduled for the following dates:

• Saturday, December 3, 2006.

• Saturday, March 4, 2006.

• Saturday, June 3, 2006.

• Saturday, September 9, 2006.

• Saturday, December 2, 2006.

Meeting agendas will be developed and available to the public prior to meeting dates through the Bureau of Land Management, Palm Springs-South Coast Field Office Web Page linking to the Santa Rosa San Jacinto Mountains National Monument Home Page at http://www.ca.blm.gov/palmsprings/santarosa/santa_rosa_national_monument.html.

The focus of all MAC meetings will be on implementation issues of the Santa Rosa and San Jacinto Mountains National Monument Management Plan. Each meeting, beginning at approximately 11 a.m., will contain a half-hour Public Comment period. During this time members of the public are encouraged to provide their comments and/or input to the MAC for further consideration and discussion. A sign-up sheet for speakers will be available at the entrance of the Palm Desert City Council Conference Room, on the day of the meeting. Speakers making comments to the Advisory Committee are requested to provide a written copy of their statement for the record.

The MAC is a committee of citizens appointed to provide advice and recommendation to the Secretaries of the Interior and Agriculture, with respect to implementation of the National Monument Management Plan. The Santa Rosa and San Jacinto Mountains National Monument Act of 2000 (16 U.S.C. 106-351), authorized establishment of the MAC with representative members from State and local jurisdictions, the Agua Caliente Band of Cahuilla Indians, a natural science expert, a member from a local conservation organization, a representative of the local developers or building industry organization, the Winter Park Authority, and a representative from the Pinyon Community Council.

All of the meetings are open to the public, attendance limited only by the space available. Individuals attending who need special assistance, such as sign language interpretations, or other reasonable accommodations, should notify the contact person listed below two (2) weeks in advance of the meeting.

Meeting Dates and Times: December 3, 2005; March 4, 2006; June 3, 2006; September 9, 2006; December 2, 2006. All MAC meetings begin at 9 a.m., and the Public Comment period begins at approximately 11 a.m.

ADDRESSES: All MAC meetings are held in the Palm Desert City Council Conference Room, 73-510 Fred Waring Drive, Palm Desert, California 92260.

FOR FURTHER INFORMATION CONTACT: Written comments should be sent to the Santa Rosa San Jacinto Mountains National Monument Writer-Editor, in-care-of the Bureau of Land Management, P.O. Box 581260, North Palm Springs, CA 92258; by telephone 760 251-4800, fax (760) 251-4899; or e-mail ca_srsj_nm@ca.blm.gov.

Additional information regarding the National Monument and the MAC is posted on the National Monument Web pages located at: http://www.ca.blm.gov/palmsprings/santarosa/santa_rosa_national_monument.html.

Documents pertinent to this notice, including comments with the names and addresses of respondents, will be available for public review at the BLM Palm Springs-South Coast Field Office located at 690 W. Garnet Avenue, North Palm Springs, California, during regular business hours 8 a.m. to 4:30 p.m., Monday through Friday, except for holidays.

SUPPLEMENTARY INFORMATION: The Santa Rosa and San Jacinto Mountains National Monument Act (Pub. L. 106-351) was signed into law on October 24, 2000, by President William Clinton. The National Monument was established in order to preserve the nationally significant biological, cultural, recreational, geological, educational and scientific values found in the Santa Rosa and San Jacinto Mountains. This legislation established the first National Monument to be jointly managed by the Bureau of Land Management (BLM) and the U.S. Forest Service (USFS). This National Monument Act only affects Federal lands, and Federal interests located within the established National Monument boundaries.

The 272,000-acre National Monument encompasses 86,400 acres of Bureau of Land Management lands; 64,400 acres of Forest Service lands; 23,000 acres of Agua Caliente Band of Cahuilla Indians lands; 8,500 acres of California Department of Parks and Recreation lands; 35,800 acres of other State of California agencies lands; and 53,900 acres of privately owned lands.

The BLM and the Forest Service's joint management is done in consultation with the Agua Caliente Band of Cahuilla Indians, other Federal and State agencies; and local governments.

All MAC, work group, and any subcommittee meetings, including field examinations, are open to the public, including representatives of the media. Any organization, association, or individual may file a statement with, or appear before the committee and/or its work groups, and any subcommittees regarding topics on a meeting's agenda.

Dated: October 7, 2005.
Elena Misquez,
Bureau of Land Management, Palm Springs-South Coast, Acting Field Office Manager.
Dated: October 6, 2005.
Danella George,
Santa Rosa & San Jacinto Mountains, National Monument Manager.
Dated: October 5, 2005.
Laurie Rosenthal,
District Ranger, San Jacinto Ranger District, San Bernardino National Forest.

[FR Doc. 05-20686 Filed 10-14-05; 8:45 am]

BILLING CODE 4310-40-P